DEPARTMENT OF TRANSPORTATION

Federal Aviation Administration

Public Notice for Waiver of Aeronautical Land-Use Assurance Holmes County Airport, Millersburg, OH

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of the sale of vacant land, containing trees, brush, wetland, and streams owned by the Holmes County Airport Authority. Parcel #8A is approximately 14.000 acres. The land was acquired under grant 3-39-0056-0607. There are no impacts to the airport by allowing the airport to dispose of the property. The proposed land for release is vacant, not required for future development, safety, or compatible land use. The intended land use is to remain vacant. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before March 30, 2011.

FOR FURTHER INFORMATION CONTACT: Alex Erskine, Program Manager, Detroit Airports District Office, 11677 South Wayne Road, Suite 107, Romulus, Michigan 48174. Telephone Number: (734) 229-2927/FAX Number: (734) 229-2950. Documents reflecting this FAA action may be reviewed at this same location or at Holmes County Airport, Millersburg, Ohio.

SUPPLEMENTARY INFORMATION: Following is a legal description of the property located in Hardy Township, County of Holmes, State of Ohio, and described as follows:

(Legal Description of Property).

Being a part of Lot 17 of the Third Quarter, Hardy Township, T-9 N, R-7 W, Holmes County, Ohio, also known as part of the lands conveyed to Holmes County Regional Airport Authority in Deed vol. 236 page 228.

Described as follows:

Commencing at a ⅝ inch rebar found marking the southeast corner of said Lot 17, thence N 03 degrees 03′25″ E 527.97 feet along the lot line to a ⅝ inch rebar found the TRUE POINT OF BEGINNING, thence with the following FOUR (4) COURSES:

(1) N 88 degrees 01′04″ W 2648.97 feet along Thomas K. Bird, Trustee (O.R. vol. 66 page 22) and Cheryl L. Bird, Trustee (O.R. vol. 66 page 43) and Wilmer A. and Sharon R. Coblentz (O.R. vol. 16 page 689 and O.R. vol. 76 page 464) and Edward A. and Teresa L. Braun (O.R. vol. 76 page 466) and Teresa L. Braun (O.R. vol. 76 page 468) and Barry and Deborah J. Walton's (O.R. vol. 76 page 462) north line to a 5\8 inch rebar found on the lot line;

(2) N 01 degrees 57′43″ E 230.03 feet along the lot line to an iron pin set;

(3) S 88 degrees 01′04′ E 2653.37 feet through the lands of said Holmes County Regional Airport Authority to an iron pin set on the lot line;

(4) S 03 degrees 03′251 W 230.07 feet along the lot line to the TRUE POINT OF BEGINNING.

This parcel contains 14.000 acres, but subject to all easements of record.

Note to go to adjoiner only.

Bearings from Geodetic North.

According to a survey made and description prepared by Donald C. Baker, P.S. 6938, December 17, 2010.

Issued in Romulus, Michigan, on January 21, 2011.
John L. Mayfield Jr.,
Manager, Detroit Airports District Office, FAA, Great Lakes Region.

[FR Doc. 2011-4224 Filed 2-25-11; 8:45 am]

BILLING CODE 4910-13-P